DEPARTMENT OF ENERGY

DOE Notification That an Additional 45-Days Is Needed To Develop Its Implementation Plan in Response to Recommendation 2004-1 of the Defense Nuclear Facilities Safety Board, Oversight of Complex, High-Hazard Nuclear Operations

AGENCY: Department of Energy.

ACTION: Notice.

SUMMARY: The Defense Nuclear Facilities Safety Board Recommendation 2004-1, concerning oversight of complex, high-hazard nuclear operations was published in the Federal Register on June 7, 2004 (69 FR 31815). The Secretary accepted the Recommendation on July 21, 2004 (69 FR 48476). In accordance with section 315(e) of the Atomic Energy Act of 1954, as amended, 42 U.S.C. 2286d(e), the Secretary informed the Defense Nuclear Facilities Safety Board that the Department requires an additional 45 days to complete its implementation plan. With the additional 45-days allowed to complete its implementation plan, the Department expects to approve the 2004-1 implementation plan by December 23, 2004.

ADDRESSES: Send comments, data, views, or arguments concerning the Secretary's response to: Defense Nuclear Facilities Safety Board, 625 Indiana Avenue NW., Suite 700, Washington, DC 20004.

FOR FURTHER INFORMATION CONTACT: Mr. Theodore D. Sherry, Deputy Manager, Department of Energy, NNSA Y-12 Site Office, 200 Administration Road, P.O. Box 2001, Oak Ridge, TN 37830.

Issued in Washington, DC on November 23, 2004.
Mark B. Whitaker, Jr.,
Departmental Representative to the Defense Nuclear Facilities Safety Board.

BILLING CODE 6450-01-P

[FR Doc. 04-26281 Filed 11-26-04; 8:45 am]

BILLING CODE 6450-01-C